DEPARTMENT OF TRANSPORTATION

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for this project are being, or have been, carried-out by TxDOT and a Memorandum of Understanding dated December 16, 2014, and executed by FHWA and TxDOT. The actions relate to various proposed highway in the State of Texas. These actions grant licenses, permits, and approvals for the projects.

DATES: By this notice, TxDOT is advising the public of final agency actions subject to 23 U.S.C. 139(l)(1). A claim seeking judicial review of TxDOT and Federal agency actions on the highway project will be barred unless the claim is filed on or before May 27, 2019. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8 a.m.-5 p.m. (central time), Monday through Friday.

SUPPLEMENTARY INFORMATION: Notice is hereby given that TxDOT and Federal agencies have taken final agency actions by issuing licenses, permits, and approvals for the following highway project in the State of Texas that are listed below.

The actions by TxDOT and Federal agencies and the laws under which such actions were taken are described in the Categorical Exclusion (CE) or Environmental Assessment (EA) issued in connection with the projects and in other key project documents. The CE or EA, and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. Business U.S. Highway (BU) 90-U from Interstate Highway (IH) 610 NE to East of Mesa Road in Harris County, Texas. The project will widen the existing facility from a four-lane undivided rural roadway to a six-lane urban roadway with a continuous left turn lane and sidewalks. The project length is approximately 1.2 miles. The actions by TxDOT and Federal agencies and the laws under which such actions were taken are described in the Categorical Exclusion Determination issued on August 14, 2018 and other documents in the TxDOT project file. The Categorical Exclusion Determination and other documents in the TxDOT project file are available by contacting TxDOT at the address provided above or the TxDOT Houston District Office located at 7600 Washington Avenue, Houston, Texas 77007; telephone (713) 802-5076.

2. Farm to Market Road (FM) 1463 from Interstate Highway (IH) 10 to FM 1093 in Fort Bend County, Texas. The project will widen FM 1463 from a two-lane urban highway to a four- to six-lane divided facility with curb and gutter, a raised median, and sidewalks on both sides of the roadway. The project length is approximately 6.8 miles. The actions by TxDOT and Federal agencies and the laws under which such actions were taken are described in the Categorical Exclusion Determination issued on July 31, 2018 and other documents in the TxDOT project file. The Categorical Exclusion Determination and other documents in the TxDOT project file are available by contacting TxDOT at the address provided above or the TxDOT Houston District Office located at 7600 Washington Avenue, Houston, Texas 77007; telephone (713) 802-5076.

3. FM 89 Buffalo Gap Access Management project; from near Bettes Lane to Rebecca Lane in Taylor County, Texas. The project will reconstruct and widen an approximately 1.2 mile long section of FM 89 (Buffalo Gap Road) in Abilene, Texas. The roadway widening will consist of a six-lane divided section from south of US 83 to Rebecca Lane (north section) and a five-lane section with two-way left-turn lane from Rebecca Lane to near Bettes Lane (south section). This will include intersection improvements on frontage road/Industrial Blvd. for US 83/84. The actions by TxDOT and Federal agencies and the laws under which such actions were taken are described in the Final Categorical Exclusion approved on August 29, 2018, the Categorical Exclusion Determination issued on August 29, 2018, and other documents in the TxDOT project file. The Categorical Exclusion Determination and other documents in the TxDOT project file are available by contacting TxDOT at the address provided above or the TxDOT Abilene District Office at 4250 N. Clack, Abilene, Texas 79601; telephone (325) 676-6817.

4. FM 1110 from IH-10 to SH 20 (Alameda Ave.) in El Paso County, Texas. The project will widen and realign FM 1110 to provide a direct connection between I-10 and SH 20 near the Town of Clint, Texas and the City of San Elizario, Texas. The 2.76 mile long project will include drainage improvements, intersection improvements, a bridge crossing over the floodplain between Salatral Lateral and FM 76, and an overpass at the Union Pacific Railroad (UPRR) crossing. Six-foot wide sidewalks and 5-foot wide bicycle lanes will be constructed on each side of FM 1110. The actions by TxDOT and Federal agencies and the laws under which such actions were taken are described in the Final Environmental Assessment (EA) approved on October 12, 2018, the Finding of No Significant Impact (FONSI) issued on October 12, 2018, and other documents in the TxDOT project file. The EA, FONSI, and other documents in the TxDOT project file are available by contacting TxDOT at the address provided above or the TxDOT El Paso District Office at 13301 Gateway Blvd. West, El Paso, TX 79928; telephone (915) 790-4340.

5. US 277 from FM 3443 to SL 480 in Maverick County, Texas. The project will reconstruct and widen US 277 in Eagle Pass, Texas. The approximately 2.75 mile long project will also add sidewalks, dual use lanes to accommodate bicycles and curb and gutter drainage improvements. The actions by TxDOT and Federal agencies and the laws under which such actions were taken are described in the Final Categorical Exclusion approved on January 26, 2017 and other documents in the TxDOT project file that are available by contacting TxDOT at the address provided above or the TxDOT Laredo District Office at 1817 Bob Bullock Loop, Laredo, TX 78043; telephone (956) 712-7416.

6. US 59 (Loop 20) from 0.33 miles west of IH35 to 0.160 miles west of McPherson Road Interchange in Webb County, Texas. The project will extend the Loop 20 mainlanes over the IH35 mainlanes and the Union-Pacific Railroad line and will consist of three 12-ft. travel lanes in each direction, a center concrete traffic barrier, inside and outside shoulders and appropriately placed on-off ramps. The project is approximately 1.25 miles long. The actions by TxDOT and Federal agencies and the laws under which such actions were taken are described in the Final Categorical Exclusion approved on May 18, 2017 and other documents in the TxDOT project file that are available by contacting TxDOT at the address provided above or the TxDOT Laredo District Office at 1817 Bob Bullock Loop, Laredo, TX 78043; telephone (956) 712-7416.

7. I-35 Eastern Frontage Road from 0.95 Mi. N. of Webb/La Salle County Line to 1000 Ft. South of Martinena Rd. in La Salle County, Texas and Webb County, Texas. The project will reconstruct 0.4 miles of existing I-35 eastern frontage road in La Salle County and construct 0.7 miles of new I-35 eastern frontage road in both La Salle and Webb Counties. The total distance of the project is approximately 1.5 miles long. The actions by TxDOT and Federal agencies and the laws under which such actions were taken are described in the Final Categorical Exclusion approved on February 1, 2018 and other documents in the TxDOT project file that are available by contacting TxDOT at the address provided above or the TxDOT Laredo District Office at 1817 Bob Bullock Loop, Laredo, TX 78043; telephone (956) 712-7416.

8. SH 11 from 6.19 miles east of FM 2653 S to SH 19 in Hopkins County, Texas. The project will rehabilitate, widen, and realign a portion of SH 11. The project is approximately 2.5 miles in length. The actions by TxDOT and Federal agencies and the laws under which such actions were taken are described in the Final Categorical Exclusion approved on May 23, 2017, the Categorical Exclusion Determination issued on May 23, 2017, and other documents in the TxDOT project file. The Categorical Exclusion Determination and other documents in the TxDOT project file are available by contacting TxDOT at the address provided above or the TxDOT Paris District Office at 1365 North Main Street, Paris, TX 75460; telephone (903) 737-9300.

9. US 82 from 0.5 miles west of SH 121 to 0.5 miles east of SH 56 in Fannin County, Texas. The project will widen the existing two lane rural highway to a divided four lane rural highway and construct overpasses, bridges and dedicated left-turn lanes at 47 crossovers along the project. The project is approximately 19.8 miles in length. The actions by TxDOT and Federal agencies and the laws under which such actions were taken are described in the Final Categorical Exclusion approved on May 18, 2018, and other documents in the TxDOT project file. The Categorical Exclusion Determination and other documents in the TxDOT project file are available by contacting TxDOT at the address provided above or the TxDOT Paris District Office at 1365 North Main Street, Paris, TX 75460; telephone (903) 737-9300.

10. FM 2304 from Ravenscroft to FM 1626 in Travis County, Texas. The project will reconstruct the 2-lane roadway to a 4-lane roadway with a center turn lane. The project is approximately 1.14 miles in length. The actions by TxDOT and Federal agencies and the laws under which such actions were taken are described in the Final Categorical Exclusion approved on August 24, 2018, the Categorical Exclusion Determination issued on August 24, 2018, and other documents in the TxDOT project file. The CE determination and other documents in the TxDOT project file are available by contacting TxDOT at the address provided above or the TxDOT Austin District Office at 7901 North I-35, Austin, TX 78753; telephone (512) 832-7000.

11. I-35 from the Guadalupe River to the Hays/Comal County Line in Comal County, Texas. The project includes operational improvements to I-35 from the Guadalupe River to the Hays/Comal County Line including ramp revisions, intersection improvements, and conversion of frontage roads from two-way to one-way operation. The project is approximately 9.25 miles in length. The actions by TxDOT and Federal agencies and the laws under which such actions were taken are described in the Final Categorical Exclusion approved on October 9, 2018, the Categorical Exclusion Determination issued on October 9, 2018, and other documents in the TxDOT project file. The CE determination and other documents in the TxDOT project file are available by contacting TxDOT at the address provided above or the TxDOT San Antonio District Office at 4615 NW Loop 410, San Antonio, TX 78229; telephone (210) 615-5839.

12. SH 71 at Pope Bend Road in Bastrop County, Texas. The project includes constructing an overpass and adding 2-lane, one-way, east bound and west bound frontage roads. The project is approximately 1.12 miles in length. The actions by TxDOT and Federal agencies and the laws under which such actions were taken are described in the Final Categorical Exclusion approved on July 27, 2018, the Categorical Exclusion Determination issued on July 27, 2018, and other documents in the TxDOT project file. The CE determination and other documents in the TxDOT project file are available by contacting TxDOT at the address provided above or the TxDOT Austin District Office at 7901 North I-35, Austin, TX 78753; telephone (512) 832-7000.

13. SH 71 from the Travis/Bastrop county line to 0.65 miles east of Tucker Hill Lane in Bastrop County, Texas. The project includes constructing an overpass and adding 2-lane, one-way, east bound and west bound frontage roads. The project is approximately 1.75 miles in length. The actions by TxDOT and Federal agencies and the laws under which such actions were taken are described in the Final Categorical Exclusion approved on June 20, 2018, the Categorical Exclusion Determination issued on June 20, 2018, and other documents in the TxDOT project file. The CE determination and other documents in the TxDOT project file are available by contacting TxDOT at the address provided above or the TxDOT Austin District Office at 7901 North I-35, Austin, TX 78753; telephone (512) 832-7000.

14. Wurzbach Parkway from Lockhill-Selma Road to NW Military Highway in Bexar County, Texas. The project will provide intersection improvements at Lockhill-Selma Road and NW Military Highway and expand Wurzbach Parkway from 4 to 6 lanes from west of Lockhill-Selma Road to NW Military Highway. The project is approximately 1.1 miles in length. The actions by TxDOT and Federal agencies and the laws under which such actions were taken are described in the Final Categorical Exclusion approved on August 29, 2018, the Categorical Exclusion Determination issued on August 29, 2018, and other documents in the TxDOT project file. The CE determination and other documents in the TxDOT project file are available by contacting TxDOT at the address provided above or the TxDOT San Antonio District Office at 4615 NW Loop 410, San Antonio, TX 78229; telephone (210) 615-5839.

15. FM 156 (Blue Mound Road), from US 81/US 287 to McLeroy Boulevard/Watauga Road, Tarrant County, Texas. The project will reconstruct and widen FM 156. The facility will include a 14-foot shared use outside lane and a 12-foot inside lane, each direction, within curb and gutter and sidewalks on both sides of the roadway. The actions by TxDOT and Federal agencies and the laws under which such actions were taken are described in the Final Categorical Exclusion approved on July 10, 2018, the Categorical Exclusion Determination issued on July 10, 2018, and other documents in the TxDOT project file. The Categorical Exclusion Determination and other documents in the TxDOT project file are available by contacting TxDOT at the address provided above or the TxDOT Fort Worth District Office at 2501 S W Loop 820, Fort Worth, Texas 76133; telephone (817) 370-6744.

16. FM 907 from Nolana Rd to IH-2, in the city of Alamo, Hidalgo County, Texas. The project will reconstruct and widen FM 907 to a 64 foot wide roadway with two outer 14 foot wide travel lanes, two inner 11 foot wide travel lanes, a continuous 12 foot wide center turn lane and 5 foot sidewalks. The project length is approximately 2.3 miles. The actions by TxDOT and Federal agencies and the laws under which such actions were taken are described in the Final Categorical Exclusion approved on June 23, 2017, and other documents in the TxDOT project file. The Categorical Exclusion Determination and other documents in the TxDOT project file are available by contacting TxDOT at the address provided above or the TxDOT Pharr District Office at 600 W. US Expressway 83, Pharr, TX 78577; telephone (956) 702-6100.

17. FM 495 from Abram Road to SH 364, in the city of Palmview, Hidalgo County, Texas. The project will reconstruct and widen SH 495 to an 84-footwide urban roadway with four 12-foot-wide travel lanes, a 16-foot-wide continuous left turn lane, two eight-foot-wide shoulders, and sidewalks on both sides of the roadway. The project length is approximately 2.3 miles. The actions by TxDOT and Federal agencies and the laws under which such actions were taken are described in the Final Categorical Exclusion approved on November 29, 2017, and other documents in the TxDOT project file. The Categorical Exclusion Determination and other documents in the TxDOT project file are available by contacting TxDOT at the address provided above or the TxDOT Pharr District Office at 600 W. US Expressway 83, Pharr, TX 78577; telephone (956) 702-6100.

18. Taylor Road from US 83 to Mile 2 North Road, in the cities of Mission and McAllen, Hidalgo County, Texas. The project will reconstruct and widen Taylor Road to a 64 foot wide urban roadway with two 11 foot wide travel lanes, two 14 foot wide shared use lanes, a 12 foot wide continuous left turn lane, and sidewalks on both sides of the roadway. The project length is approximately 3.0 miles. The actions by TxDOT and Federal agencies and the laws under which such actions were taken are described in the Final Categorical Exclusion approved on January 11, 2018, and other documents in the TxDOT project file. The Categorical Exclusion Determination and other documents in the TxDOT project file are available by contacting TxDOT at the address provided above or the TxDOT Pharr District Ofice at 600 W. US Expressway 83, Pharr, TX 78577; telephone (956) 702-6100.

19. US 69/FM 779 Interchange in Wood County, Texas. The project will construct a grade-separated interchange along US 69 over the existing intersection at FM 779. US 69 would be widened from a two-lane roadway to a four-lane divided roadway with depressed median. The project length is approximately 2.17 miles. The actions by TxDOT and Federal agencies and the laws under which such actions were taken are described in the Final Categorical Exclusion approved on December 7, 2017, and other documents in the TxDOT project file. The Categorical Exclusion Determination and other documents in the TxDOT project file are available by contacting TxDOT at the address provided above or the TxDOT Tyler District Office at 2709 W. Front St., Tyler, TX 75702; telephone (903) 510-9100.

20. IH-20 Ramps from CR 433 to CR 431, in Smith County, Texas. The project will construct westbound and eastbound frontage roads for IH-20 and will include entrance and exit ramp reconfigurations for the IH-20 and US 69 intersection. The project length is approximately 4.0 miles. The actions by TxDOT and Federal agencies and the laws under which such actions were taken are described in the Final Categorical Exclusion approved on March 19, 2018, and other documents in the TxDOT project file. The Categorical Exclusion Determination and other documents in the TxDOT project file are available by contacting TxDOT at the address provided above or the TxDOT Tyler District Office at 2709 W. Front St., Tyler, TX 75702; telephone (903) 510-9100.

21. US 69 from IH10 to Tram Road, in Jefferson County, Texas. The project will widen US 69 from 4 to 6 lanes as a divided highway with a concrete median barrier, add merging lanes, remove the US69 north bound exit ramp to Delaware Street, relocate ramps at Chinn and Tram Roads and widen overpass bridges. The project length is approximately 5.9 miles. The actions by TxDOT and Federal agencies and the laws under which such actions were taken are described in the Final Categorical Exclusion approved on June 1, 2018, and other documents in the TxDOT project file. The Categorical Exclusion Determination and other documents in the TxDOT project file are available by contacting TxDOT at the address provided above or the TxDOT Beaumont District Office at 8350 Eastex Freeway, Beaumont, TX 77708; telephone (409) 892-7311.

22. I-10 from FM 365 East to Walden Road (CR 131), in Jefferson County, Texas. The project will reconstruct and widen I-10 to a six-lane highway, with 12-foot wide travel lanes, 10-foot wide outside shoulders, 10-foot wide inside shoulders, and a concrete median barrier. In addition, the Brooks Road Overpass will be replaced and the Boyt Road Overpass will be removed. The project length is approximately 9.9 miles. The actions by TxDOT and Federal agencies and the laws under which such actions were taken are described in the Final Categorical Exclusion approved on June 1, 2018, and other documents in the TxDOT project file. The Categorical Exclusion Determination and other documents in the TxDOT project file are available by contacting TxDOT at the address provided above or the TxDOT Beaumont District Office at 8350 Eastex Freeway, Beaumont, TX 77708; telephone (409) 892-7311.

Authority: 23 U.S.C. 139(l)(1).

Issued on: December 17, 2018.
Michael T. Leary,
Director, Planning and Program Development, Federal Highway Administration.

[FR Doc. 2018-27698 Filed 12-27-18; 8:45 am]

BILLING CODE 4910-22-P